DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 24, 2011. Address written comments to Statutory Import Programs Staff, Room 3720, U.S. Department of Commerce, Washington, DC 20230. Applications may be examined between 8:30 a.m. and 5 p.m. at the U.S. Department of Commerce in Room 3720.

Docket Number: 11-043. Applicant: Mississippi State University, 3137 Highway 468 West, Pearl, MS 39208. Instrument: Transmission electron microscope. Manufacturer: JEOL Ltd., Japan. Intended Use: The instrument will be used in conducting research and diagnostic work in microbiology and pathology, to study biological materials in order to identify bacterial or viral pathogens with clinical significance in veterinary medicine. Justification for Duty-Free Entry: No instruments of the same general category or comparable instruments that could otherwise be used for the intended purpose are being manufactured in the United States. Application accepted by Commissioner of Customs: July 7, 2011.

Docket Number: 11-044. Applicant: University of Chicago, Argonne National Laboratory, 9700 South Cass Avenue, Lemont, IL 60439. Instrument: Magneto-optical Kerr microscope system. Manufacturer: Evico Magnetics GmgH, Germany. Intended Use: The instrument will be used for real-time imaging of magnetic domains, as well as provide Kerr effect magnetic hysteresis loops, thereby providing important information on the reversal behavior in ferromagnetic films. Justification for Duty-Free Entry: No instruments of the same general category or comparable instruments that meet the technical requirements for the intended purpose are being manufactured in the United States. Application accepted by Commissioner of Customs: July 14, 2011.

Dated: July 27, 2011.
Supriya Kumar,
Acting Director, Subsidies Enforcement Office, Office of Policy, Import Administration.

[FR Doc. 2011-19705 Filed 8-3-11; 8:45 am]

BILLING CODE 3510-DS-P